DEPARTMENT OF THE INTERIOR

Fish and Wildlife Service

50 CFR Part 16

[Docket No. FWS-R9-FHC-2008-0015; FXFR13350900000-145-FF09F14000]

RIN 1018-AV68

Injurious Wildlife Species; Listing the Reticulated Python, Three Anaconda Species, and the Boa Constrictor as Injurious Reptiles

AGENCY: Fish and Wildlife Service, Interior.

ACTION: Proposed rule; Reopening of Comment Period.

SUMMARY: We, the U.S. Fish and Wildlife Service (Service), announce the reopening of the comment period on the proposed rule published on March 12, 2010, which proposed to amend our regulations to add nine species of large constrictor snakes as injurious species under the Lacey Act. Because four of the nine species were added to the regulations in 2012, this reopening notice is restricted to the five remaining species: the reticulated python (Broghammerus reticulatus or Python reticulatus), DeSchauensee's anaconda (Eunectes deschauenseei), green anaconda (Eunectes murinus), Beni anaconda (Eunectes beniensis), and boa constrictor (Boa constrictor). If you have previously submitted comments on the proposed rule, please do not resubmit them because we have already incorporated them in the public record and will fully consider them in our final decision on these five species.

DATES: We will consider comments received or postmarked on or before July 24, 2014. Any comments that are received after the closing date may not be considered in the final decision on this action.

ADDRESSES: You may submit comments by one of the following methods:

• Federal eRulemaking Portal: http://www.regulations.gov. In the Search box, enter the docket number for the proposed rule, which is FWS-R9-FHC-2008-0015. Click on “Comment Now!” to submit a comment. Please ensure that you have found the correct rulemaking before submitting your comment.

• U.S. mail: Public Comments Processing, Attn: Docket No. FWS-R9-FHC-2008-0015; Division of Policy and Directives Management; U.S. Fish and Wildlife Service; 4401 N. Fairfax Drive, Suite 222; Arlington, VA 22203.

We will not accept email or faxes. We will post all comments on http://www.regulations.gov. This generally means that we will post any personal information you provide us (see Public Comments below for more information). Information regarding this notice is available in alternative formats upon request.

FOR FURTHER INFORMATION CONTACT: Bob Progulske, Everglades Program Supervisor, South Florida Ecological Services Office, U.S. Fish and Wildlife Service, 1339 20th Street, Vero Beach, FL 32960; telephone 772-469-4299. If you use a telecommunications device for the deaf (TDD), please call the Federal Information Relay Service (FIRS) at 800-877-8339.

SUPPLEMENTARY INFORMATION: On March 12, 2010, we published a proposed rule (75 FR 11808) to list Python molurus (which includes Burmese and Indian pythons), reticulated python, Northern African python (Python sebae), Southern African python (Python natalensis), boa constrictor, yellow anaconda (Eunectes notaeus), DeSchauensee's anaconda, green anaconda, and Beni anaconda as injurious reptiles under the Lacey Act (18 U.S.C. 42). This proposed rule established a 60-day comment period, ending May 11, 2010, and announced the availability of the draft economic analysis and the draft environmental assessment of the proposed rule. At the request of the public, we reopened the comment period for an additional 30 days on July 1, 2010 (75 FR 38069). On January 23, 2012, the Service published a final rule (77 FR 3330) that added Python molurus (which includes Burmese python and Indian python), Northern African python, Southern African python, and yellow anaconda to the list of injurious wildlife, while the other five species in the proposed rule remained under consideration. The Service has decided to reopen the public comment period on the same proposed rule, but only for the five remaining species.

The proposed rule, draft economic analysis, initial regulatory flexibility analysis, and draft environmental assessment are available for review at http://www.regulations.gov under Docket No. FWS-R9-FHC-2008-0015, or on the South Florida Ecological Services Office Web site at http://www.fws.gov/verobeach/index.cfm?method=activityhighlights&id=11, or at the South Florida Ecological Services Office (see FOR FURTHER INFORMATION CONTACT).

Public Comments

The Service has chosen to reopen the comment period because approximately 4 years have elapsed since the public was able to comment on the Service's proposed action for these five species. We intend that any subsequent final action resulting from the proposed rule will be based on the best information available to the Service and be as accurate and complete as possible. Therefore, we request comments or information from other concerned government agencies, the scientific community, industry, or other interested parties concerning the proposed rule. We will consider information and recommendations from all interested parties. For the complete list of subjects on which we seek comments for the five species, please refer to the March 12, 2010, proposed rule (75 FR 11808), available online at http://www.regulations.gov under Docket No. FWS-R9-FHC-2008-0015 or from the South Florida Ecological Services Office (see FOR FURTHER INFORMATION CONTACT).

Before providing your comments, we recommend that you review the final rule listing the Burmese python, Northern and Southern African pythons, and yellow anaconda (77 FR 3330; January 23, 2012), particularly the section Comments Received on the Proposed Rule. This section extensively covers our responses to the public comments that we received during the first two comment periods (although focused on the four species listed in that final rule) and may address your issues. Also, the final economic analysis, final environmental assessment, and final regulatory flexibility analysis associated with that final rule can provide additional insight if you intend to submit new comments on the draft economic analysis, draft environmental assessment, and initial regulatory flexibility analysis.

You may submit your comments and supporting materials concerning the proposed rule, the draft economic analysis, the initial regulatory flexibility analysis, and the draft environmental assessment by one of the methods listed in ADDRESSES. We will not accept comments sent by email or fax or to an address not listed in ADDRESSES.

If you submit a comment via http://www.regulations.gov, your entire submission—including any personal identifying information—will be posted on the Web site. Before including your address, phone number, email address, or other personal identifying information in your comment, you should be aware that your entire comment—including your personal identifying information—may be made publicly available at any time. While you can ask us in your comment to withhold your personal identifying information from public review, we cannot guarantee that we will be able to do so. We will post all hardcopy submissions on http://www.regulations.gov. Please include sufficient information with your comments to allow us to verify any scientific or commercial information you include.

We are seeking new information from the public only for the boa constrictor, reticulated python, DeSchauensee's anaconda, green anaconda, and Beni anaconda; comments on other species will not be considered. The new information (information that has become available after the close of the previous comment period on August 2, 2010) may relate to any aspect of the proposed rule and the associated draft economic analysis, initial regulatory flexibility analysis, and draft environmental assessment. Such information includes, but is not limited to, the biology of the five species, existing regulations that apply to the five species, the economic effect on wholesale and retail sales, and any other information relevant to the proposed rule and associated documents. Specific questions can be found in the proposed rule (75 FR 11808; March 12, 2010). We may revise the rule or supporting documents to incorporate or address information we receive during this reopened public comment period.

Comments and materials we receive, as well as supporting documentation we used in preparing the proposed rule, will be available for public inspection on http://www.regulations.gov under Docket No. FWS-R9-FHC-2008-0015, or by appointment, during normal business hours at the South Florida Ecological Services Office (see FOR FURTHER INFORMATION CONTACT).

In preparing the final rule, we will consider all comments and any additional information that we receive during this reopened comment period on the proposed rule. As we did previously, we are evaluating each of the five species of constrictor snakes individually. Accordingly, the final decision may differ from the March 2010 proposal.

Authority: The authority for this action is the Lacey Act (18 U.S.C. 42).

Dated: May 21, 2014
Rachel Jacobson,
Principal Deputy Assistant Secretary for Fish and Wildlife and Parks.

[FR Doc. 2014-14712 Filed 6-23-14; 8:45 am]

BILLING CODE 4310-55-P